DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 72 FR 45430-45433, dated August 14, 2007) is amended to reflect the reorganization of the Office of Enterprise Communication, Office of the Director, Centers for Disease Control and Prevention.

Section C-B, Organization and Functions, is hereby amended as follows: Delete in their entirety the functional statements for the Office of Enterprise Communication (CAU) and the Office of the Director (CAU1), and insert the following:

Office of Enterprise Communication (CAU). The mission of the Office of Enterprise Communication (OEC) is to assure CDC's leadership role in promoting public health and preventing disease by fostering an organizational culture that ensures coordination and prompt response to urgent issues and concerns; anticipates and elevates issues that shape the Agency's position; upholds and safeguards our credibility and confidence of employees, partners, and public; and promotes effective and efficient communication networks and products. To carry out its mission, OEC (1) plans, directs, coordinates, and facilitates communication activities related to policy issues and situations with serious and cross-cutting potential organizational impact; (2) provides leadership, technical assistance, and consultation to the agency's coordinating centers/offices (CC/COs), national centers (NCs), and offices in reputational risk communication and reputational management; (3) provides leadership, technical assistance, and consultation to the agency's CC/COs, NCs, and offices in establishing best business communication practices and strategic principles to maximize effectiveness; (4) conducts environmental scanning to determine emerging threats to the agency's reputation; (5) implements external communication strategies to promote and protect the agency's brand; (6) provides guidance on best practice in internal and external communication; (7) assists the CC/COs, their NCs, and partners in identifying and building needed expertise and state-of-the-art technology, logistical support, and other capacities required for effective external and internal policy/public affairs communication, and media relations; (8) positions the agency to respond quickly, fairly, openly, and honestly to challenges and potential problems; (9) maintains liaison with officials from the Department of Health and Human Services (DHHS), other Federal and state public health agencies, and private sector organizations to coordinate communication programs and strategies of mutual concern; and (10) identifies and promotes the use of the latest information technologies to support and coordinate CDC's enterprise-wide communication efforts throughout the CC/COs.

Office of the Director (CAU1). (1) Ensures CDC communication activities follow policy directions established by DHHS; (2) establishes and interprets policies and determines priorities for communicating the value and benefits of CDC programs; (3) establishes, administers, and coordinates CDC's media relations policies in a manner to ensure that communication efforts reflect the scientific integrity of all CDC research, programs, and activities, and that such information is factual, accurate, and targeted toward improving public health; (4) provides leadership and guidance on developing and implementing external public relations strategies to communicate upward and outward to customers, partners, and other stakeholders; (5) provides leadership and guidance on developing and implementing internal public relations strategies to communicate to the agency's workforce; (6) facilitates coordination throughout the agency to ensure the use of consistent and repetitive messages that achieve awareness and understanding; (7) facilitates coordination throughout the agency to ensure the distribution of messages through the right channels and to the appropriate audience; (8) provides guidance on leadership communication effectiveness; (9) provides leadership in the development and implementation of proactive strategies and practices for effective issue management and public affairs activities; (10) provides leadership and guidance in using efficient and transparent processes to communicate the decision-making activities of CDC's leadership; (11) facilitates the activation of situation-specific teams of experts and specialists to develop and implement communication strategies to respond to and resolve controversial public issues, influence public attitude and perception, and support and promote the business of the agency in a scientific and positive manner; (12) collaborates with stakeholders and partners, responsible for the planning, coordination and management of the Conference Center located in the Global Communications Center (GCC) on the Roybal Campus; manages the infrastructure support for functions within the Scientific Communication Center provided by contract; (13) manages the functions of common used space in the GCC and Building 21, First Floor, on the Roybal Campus; (14) provides conference management support to internal and external customers for meetings held in the GCC and Building 21, First Floor; and (15) creates and maintains liaisons with the CC/CO Enterprise Communication Officers Executive Leadership Board, CDC Foundation, and Emergency Communications System to monitor and respond to issues that are a threat to the business of the agency.

Delete in its entirety the functional statement for the Management Analysis and Services Office (CAJG) and insert the following:

Plans, coordinates, and provides CDC-wide management and information services in the following areas: policy development, management and consultation; management studies and surveys; internal controls program; delegations of authorities; organizations and functions; Federal Advisory Committee management; records management; most efficient organization implementation; printing procurement; electronic forms design and management; mail center services and operations; information quality; competitive sourcing; and office automation services and support.

Delete items (4) and (8) of the functional statement for the Management and Information Services Branch (CAJGC), Management Analysis and Services Office (CAJG), and renumber the remaining items accordingly.

Dated: November 5, 2007.
William H. Gimson,
Chief Operating Officer, Centers for Disease Control and Prevention.

[FR Doc. 07-5634 Filed 11-13-07; 8:45 am]

BILLING CODE 4160-18-M